DEPARTMENT OF TRANSPORTATION

Coast Guard

[USCG 2002-12973]

Guidelines for Assessing Merchant Mariners Through Demonstrations of Proficiency as Mate (Pilot) of Towing Vessels

AGENCY: Coast Guard, DOT.

ACTION: Notice of availability and request for public comments.

SUMMARY: The Coast Guard announces the availability of, and seeks public comments on, the national performance measures proposed here for use as guidelines when mariners demonstrate their proficiency as Mates (Pilots) of Towing Vessels. These measures were developed from recommendations and input provided by the Towing Safety Advisory Committee (TSAC).

DATES: Comments and related material must reach the Docket Management Facility on or before October 7, 2002.

ADDRESSES: Please identify your comments and related material by the docket number of this notice [USCG 2002-12973]. Then, to make sure they enter the docket only once, submit them by just one of the following means:

(1) By mail to the Docket Management Facility, U.S. Department of Transportation, room PL-401, 400 Seventh Street SW., Washington, DC 20590-0001.

(2) By delivery to room PL-401 on the Plaza level of the Nassif Building, 400 Seventh Street SW., Washington, DC, between 9 a.m. and 5 p.m., Monday through Friday, except Federal holidays. The telephone number is 202-366-9329.

(3) By fax to the Docket Management Facility at 202-493-2251.

(4) Electronically through the Web Site for the Docket Management System at http://dms.dot.gov.

The Docket Management Facility maintains the public docket for this Notice. Comments and related material received from the public, as well as documents mentioned in this Notice, will become part of this docket and will be available for inspection or copying at room PL-401 on the Plaza level of the Nassif Building, 400 Seventh Street SW., Washington, DC, between 9 a.m. and 5 p.m., Monday through Friday, except Federal holidays. You may also find this docket on the Internet at http://dms.dot.gov.

The measures proposed here are also available from Mr. Gerald P. Miante, Assistant Executive Director of TSAC, Maritime Personnel Qualifications Division, Office of Operating and Environmental Standards, Room 1210 (G-MSO-1), U.S. Coast Guard Headquarters, 2100 Second Street SW., Washington, DC 20593-0001, telephone 202-267-0229, or e-mail address gmiante@comdt.uscg.mil.

FOR FURTHER INFORMATION CONTACT: For questions on this Notice or on the national performance measures proposed here, write, call or e-mail Mr. Miante where indicated under ADDRESSES. For questions on viewing or submitting material to the docket, call Ms. Dorothy Beard, Chief, Dockets, Department of Transportation, telephone 202-366-5149.

SUPPLEMENTARY INFORMATION:

What Action Is the Coast Guard Taking?

An interim rule on Licensing and Manning for Officers of Towing Vessels [USCG 1999-6224] appeared in the Federal Register on Thursday, April 26, 2001 [66 FR 20931]. It requires certain candidates for licenses as officers of towing vessels to hold completed Towing Officers' Assessment Records (TOARs). This is to ensure that these mariners attain the minimum standard of competence through demonstrations of their proficiency as Mates (Pilots) of Towing Vessels.

The Coast Guard charged the TSAC with creating first a list of tasks or duties that candidates should be able to perform, and, subsequently, recommending national performance measures for completing those tasks. The TSAC's License Implementation Work Group completed the list in early 2001, and this turned up as the “TOAR” in the Coast Guard's guidance document for the implementation of the new rules, Navigation and Inspection Circular (NVIC) 4-01, “Licensing and Manning for Officers of Towing Vessels.” Recently, the TSAC approved the Working Group's second effort, their recommendation of assessment criteria or performance measures that Designated Examiners (DEs) can use in judging candidates' execution of the required tasks.

The Coast Guard has reviewed the measures recommended by the TSAC. We are here presenting them for public comment on their suitability for use as guidelines in assessing proficiency.

The guidelines are set up as follows: First, the TOARs come in four varieties, according to the candidate's intended route or area of operation: Near-Coastal and Oceans, Great Lakes and Inland, Western Rivers, and Limited areas. Next, within each TOAR, we assign a letter to each of a series of main tasks or duties. Then we assign a number to each of several sub-tasks under these, indicate whether each sub-task is common to all routes, and finally set forth particular performance measures.

For example, in the TOAR for Near-Coastal and Oceans, main task or duty “D” is “Maneuvering” and sub-task D-1 directs the candidate to “Maneuver a light boat.” An “X” evident in the second column indicates that this sub-task applies to all candidates for all TOARs.

Under the name of sub-task D-1, we instruct the DE generally to “Have the mariner demonstrate the ability to safely navigate the vessel in the following scenarios:”

One of these scenarios is “Landing”, with the Performance Standard that “the mariner land safely on a vessel and dock, both with and against the current” and “[e]nsure that the mariner maintain a safe speed with no headway or excess momentum at the moment of contact.”

If the mariner properly meets all of the Performance Standards, he or she passes the practical demonstration. If he or she fails to properly carry out any of the Performance Standards, he or she fails it.

Why Is the Coast Guard Taking This Action?

The Coast Guard is taking this action to comply with the interim rule on towing officers published in 2001. To act as a DE and determine whether a candidate has successfully completed the required demonstrations, the would-be DE must himself or herself be approved by the Coast Guard's National Maritime Center (NMC), and also have relevant experience in the task(s) being demonstrated, have read a guidance document for assessors published by the Coast Guard at http://www.uscg.mil/NMC/assessorman.pdf, and employ a set of approved assessment criteria. These versions of the TOARs should fulfill this last condition.

How May I Participate in This Action?

You may participate in this action by submitting comments and related material on the national performance measures proposed here. These measures are available on the Internet at http://dms.dot.gov, under this docket number [USCG 2002-12973]. They are also available from Mr. Miante where indicated under ADDRESSES. If you submit written comments please include—

• Your name and address;

• The docket number for this Notice [USCG 2002-12973];

• The specific section of the performance measures to which each comment applies; and

• The reason for each comment.

You may mail, deliver, fax, or electronically submit your comments and related material to the Docket Management Facility, using an address or fax number listed in ADDRESSES. Please do not submit the same comment or material more than once. If you mail or deliver your comments and material, they must be on 8½-by-11-inch paper, and the quality of the copy should be clear enough for copying and scanning. If you mail your comments and material and would like to know whether the Facility received them, please enclose a stamped, self-addressed postcard or envelope. The Coast Guard will consider all comments and material received during the 60-day comment period.

Once we have considered all comments and related material, we will publish a final version of the national performance measures for use as guidelines by the general public. Individuals and institutions assessing the competence of mariners may refine the final version of these measures and develop innovative alternatives. If you vary from the final version of these measures, however, you must submit your alternative to the National Maritime Center for approval by the Coast Guard under 46 CFR 10.303(e) before you use it as part of an approved course or training program.

Dated: July 30, 2002.
Joseph J. Angelo,
Director of Standards, Marine Safety, Security & Environmental Protection.

[FR Doc. 02-19845 Filed 8-5-02; 8:45 am]

BILLING CODE 4910-15-P